DEPARTMENT OF HOMELAND SECURITY

Coast Guard

DEPARTMENT OF TRANSPORTATION

Maritime Administration

[USCG-2004-16860]

Gulf Landing LLC Liquefied Natural Gas Deepwater Port License Application; Final Environmental Impact Statement Supplementary Material

AGENCY: Coast Guard, DHS, and Maritime Administration, DOT.

ACTION: Notice of availability.

SUMMARY: The Coast Guard and the Maritime Administration (MARAD) announce the availability of material supplementing the Final Environmental Impact Statement (FEIS) for the Gulf Landing LLC Liquefied Natural Gas Deepwater Port License Application. The supplementary material corrects errors that appear in the FEIS.

FOR FURTHER INFORMATION CONTACT: If you have questions about the supplementary material, you may contact Lieutenant Commander Derek Dostie, U.S. Coast Guard at 202-267-0662 or ddostie@comdt.uscg.mil. If you have questions about this FEIS or the NEPA process, please contact Joan Lang, U.S. Coast Guard at 202-267-2498 or jlang@comdt.uscg.mil. If you have questions on viewing or submitting material to the docket, call Andrea M. Jenkins, Program Manager, Docket Operations, telephone 202-366-0271.

SUPPLEMENTARY INFORMATION: On December 3, 2004, the Coast Guard and MARAD notice of availability for the Gulf Landing LLC Liquefied Natural Gas Deepwater Port License FEIS appeared in the Federal Register (69 FR 70270). Subsequently, we discovered and corrected errors in the text and in Appendix G of the FEIS. These corrections appear in an errata sheet and revised Appendix G which, along with the FEIS itself, are now available in the docket on the Internet at http://dms.dot.gov under docket number USCG-2004-16860. You may also view these materials in person at the Docket Management Facility in room PL-401 on the Plaza level of the Nassif Building, 400 Seventh Street, SW., Washington, DC, between 9 a.m. and 5 p.m., Monday through Friday, except Federal holidays.

The corrections relate to the ichthyoplankton impact assessments that were developed in coordination with the National Oceanic and Atmospheric Administration National Marine Fisheries Service (NOAA NMFS). Results of the assessment showed that the expected (average) red drum base-case potential loss was equivalent to 0.8% of the 2002 Gulf of Mexico commercial and recreational harvest (representing 28,335 age-1 equivalent red drum fish, or an equivalent yield of 100,985 pounds). The agreed upon range for the highest and lowest probable impacts were between 3.8% and 0.1% of the 2002 Gulf of Mexico commercial and recreational harvest (representing 137,334 and 2,353 age-1 equivalent red drum fish, or an equivalent yield of 489,148 and 8,381 pounds, respectively). Calculated potential impacts on all other species of concern analyzed were at least an order of magnitude lower than for red drum and can be found in detail in the correction documents.

Please note that the percentages are in comparison to the total Gulf of Mexico landings, and not to the entire fish stock of the species of concern. Equivalent yield is in no way intended to, or capable of predicting direct losses to fish landings or harvest. For example: an equivalent yield that represents .8% of the red drum fishing harvest is equivalent to an additional .8% fishing stress on the population, when compared to that harvest, and not a .8% loss of that harvest.

Dated: February 4, 2005.
Howard L. Hime,
Acting Director of Standards, Marine Safety, Security, and Environmental Protection, U.S. Coast Guard.
H. Keith Lesnick,
Senior Transportation Specialist, Deepwater Ports Program Manager, U.S. Maritime Administration.

[FR Doc. 05-2596 Filed 2-9-05; 8:45 am]

BILLING CODE 4910-15-P